DEPARTMENT OF HEALTH AND HUMAN SERVICES

National Institutes of Health

National Institute of Dental & Craniofacial Research; Amended Notice of Meeting

Notice is hereby given of a change in the meeting of the NIDCR Special Grants Review Committee, which was published in the Federal Register on February 15, 2019, 84 FR 4495, page 02428.

The meeting is being amended to change location from Westgate Hotel to Embassy Suites DC Convention Center. The meeting is closed to the public.

Dated: August 23, 2019.
Sylvia L. Neal,
Program Analyst, Office of Federal Advisory Committee Policy.

[FR Doc. 2019-18644 Filed 8-28-19; 8:45 am]

BILLING CODE 4140-01-P